DEPARTMENT OF COMMERCE

[I.D. 080204B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southwest Region Permit Family of Forms.

Form Number(s): None.

OMB Approval Number: 0648-0204.

Type of Request: Regular submission.

Burden Hours: 282.

Number of Respondents: 1,706.

Average Hours Per Response: Confirmation of records, 10 minutes; correction/fill in blanks, 20 minutes; and full new permit forms, 1 hour.

Needs and Uses: The owners of vessels that fish out of West Coast ports for highly migratory species such as tuna, billfish, and sharks would be required to obtain permits registered for use by specific fishing vessels with endorsements for the gear(s) to be used. The permits are necessary to ensure the ability to monitor the fisheries and determine the effects and effectiveness of the fishery management program. The permits also provide a basic tool to contact the persons who are active in the fisheries and have the major stake in the management of the fisheries. The National Marine Fisheries Service (NMFS) and the Pacific Fishery Management Council can keep permit holders informed of prospective management changes so they can advise about the potential impacts and implications of the changes. The permits also provide a basis for determining who should be providing information about their fishing activities so that fishery trends and conditions can be tracked for possible identification of problems as well as to evaluate the success of the management program. Finally, permit information may support effective enforcement of fishery conservation and management measures.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: July 29, 2004.
Gwellnar Banks,
Management Analyst, Office of the Chief Information Officer.

[FR Doc. 04-17896 Filed 8-4-04; 8:45 am]

BILLING CODE 3510-22-S